DEPARTMENT OF ENERGY

Federal Energy Regulatory Commission

[Project No. 553-238]

City of Seattle, Washington; Notice of Availability of Final Environmental Assessment

In accordance with the National Environmental Policy Act of 1969 and the Federal Energy Regulatory Commission's (Commission) regulations, 18 CFR part 380 (Order No. 486, 52 FR 47897), the Office of Energy Projects has reviewed an application submitted by the City of Seattle, Washington to construct a replacement fuel dock and associated infrastructure at Diablo Lake at the Skagit River Project No. 553. The Skagit River Project is located on the Skagit River in Snohomish, Skagit, and Whatcom counties, Washington. The project occupies a portion of the Ross Lake National Recreation Area administered by the U.S. National Park Service and the Mount Baker National Forest administered by the U.S. Forest Service.

A Final Environmental Assessment (FEA) has been prepared as part of staff's review of the proposal.¹ The FEA contains the Commission staff's analysis of the probable environmental effects of the proposed action and concludes that approval of the proposal, with Commission staff's recommended measures, would not constitute a major federal action that would significantly affect the quality of the human environment.

¹ On July 16, 2020, the Council on Environmental Quality (CEQ) issued a final rule, Update to the Regulations Implementing the Procedural Provisions of the National Environmental Policy Act (Final Rule, 85 FR 43,304), which was effective as of September 14, 2020; however, the NEPA review of this project was in process at that time and was prepared pursuant to CEQ's 1978 NEPA regulations.

The FEA may be viewed on the Commission's website at http://www.ferc.gov using the “elibrary” link. Enter the docket number (P-553) in the docket number field to access the document. At this time, the Commission has suspended access to the Commission's Public Reference Room, due to the proclamation declaring a National Emergency concerning the Novel Coronavirus Disease (COVID-19), issued by the President on March 13, 2020. For assistance, contact FERC Online Support at FERCOnlineSupport@ferc.gov or toll-free at 1-866-208-3372, or for TTY, (202) 502-8659.

Dated: November 18, 2021.
Debbie-Anne A. Reese,
Deputy Secretary.

[FR Doc. 2021-25682 Filed 11-23-21; 8:45 am]

BILLING CODE 6717-01-P